DEPARTMENT OF THE INTERIOR

Bureau of Land Management

[BLM_AK_FRN_MO4500180291]

Special Areas Within the National Petroleum Reserve in Alaska

AGENCY: Bureau of Land Management, Interior.

ACTION: Notice of request for information.

SUMMARY: The Bureau of Land Management (BLM), Alaska State Office, is seeking written feedback from the public on the need to: identify additional significant resource values for existing Special Areas; modify the boundaries or management of existing Special Areas; or identify public lands that may qualify for designation as new Special Areas in the National Petroleum Reserve in Alaska (NPR-A).

DATES: Responses are due by 11:59 p.m. Eastern Time on September 16, 2024. Responses received after this deadline may not be taken into consideration.

ADDRESSES: Interested individuals and organizations should submit comments electronically to BLM_NPRA_SpecialAreas@blm.gov and include “RFI: Special Areas in the National Petroleum Reserve in Alaska” in the subject line of the message. Submissions should be machine readable in PDF or Word format and should not be locked or password protected.

Instructions: Response to this Request for Information (RFI) is voluntary. Responses should include the name of the person(s) or organization(s) filing the response. Responses containing references, studies, research, and other empirical data that are not widely published should include copies of or electronic links to the referenced materials.

The BLM may post responses to the RFI, without change, on its website and may use the information received as the BLM finds suitable.

FOR FURTHER INFORMATION CONTACT: Stacie McIntosh, Senior Policy Analyst, at s05mcint@blm.gov or (907) 474-2398.

Individuals in the United States who are deaf, deafblind, hard of hearing, or have a speech disability may dial 711 (TTY, TDD, or TeleBraille) to access telecommunications relay services for contacting Ms. McIntosh. Individuals outside the United States should use the relay services offered within their country to make international calls to the point-of-contact in the United States.

SUPPLEMENTARY INFORMATION: The Naval Petroleum Reserves Production Act of 1976 (NPRPA), as amended, requires that the BLM assure the maximum protection of significant surface values “within the Utukok River, the Teshekpuk Lake areas, and other areas designated by the Secretary of the Interior containing any significant subsistence, recreational, fish and wildlife, or historical or scenic value,” consistent with the exploration for and production of oil and gas from the NPR-A. See 42 U.S.C. 6504(a); see also 42 U.S.C. 6506a(n)(2). The NPRPA provides the Secretary of the Interior authority to designate areas with significant surface resource values as “Special Areas” within the Reserve.

On April 19, 2024, the BLM announced a final rule modifying the procedures for the designation, de-designation, amendment, and change in management of Special Areas within the Reserve. The rule was published in the Federal Register on May 7, 2024 (89 FR 38712) and became effective on June 6, 2024. Under the final rule, the BLM has flexibility in how, whether, and when to undertake changes to Special Area designations, including by undertaking a process to amend the Integrated Activity Plan (IAP) governing the NPR-A or by utilizing a separate process. See 43 CFR 2361.30.

BLM-Alaska is now seeking written feedback and information from the public to inform whether to initiate a process to consider changes to the Special Areas identified in the current IAP. The BLM is particularly interested in receiving comments and feedback regarding whether: (1) the significant resource values protected by existing Special Areas are comprehensive or whether additional such values exist; (2) the boundaries of existing Special Areas should be modified; (3) additional measures in existing Special Areas may be necessary to assure maximum protection of significant surface resource values; and (4) new Special Areas should be designated. To be most helpful, feedback should provide as much specificity as possible, including the presence or absence of significant surface resource values in particular locations and rationale as to what additional measures may be required to protect significant resource values within certain boundaries.

By issuing this notice, the BLM is not initiating or committing to initiate a process under 43 CFR 2361.30 but will use the information submitted to determine whether to do so. Should the BLM determine to take further action in response to this RFI, the BLM will follow the process set out in the final rule, including applicable opportunities for public engagement and Tribal consultation.

Steven M. Cohn,
State Director, Alaska.

[FR Doc. 2024-15743 Filed 7-16-24; 8:45 am]

BILLING CODE 4331-10-P